POSTAL SERVICE

Notice of Intent To Prepare an Environmental Impact Statement for Purchase of Next Generation Delivery Vehicles

AGENCY: U.S. Postal Service.

ACTION: Notice.

SUMMARY: The U.S. Postal Service announces its intention to prepare an Environmental Impact Statement (EIS) for the purchase over 10 years of 50,000 to 165,000 purpose-built, right-hand-drive vehicles—the Next Generation Delivery Vehicle (NGDV)—to replace existing delivery vehicles nationwide that are approaching the end of their service life. While the Postal Service has not yet determined the precise mix of the powertrains in the new vehicles to be purchased, current plans are for the new vehicle purchases to consist of a mix of internal combustion engine and battery electric powertrains; the purchases will also be designed to be capable of retrofits to keep pace with advances in electric vehicle technologies. The EIS will evaluate the environmental impacts of the purchase and operation of the NGDV, as well as a commercial off-the-shelf (COTS) vehicle alternative and a “no action” alternative.

DATES: Comments should be received no later than April 5, 2021. The Postal Service will also publish a Notice of Availability to announce the availability of the Draft EIS and solicit comments on the Draft EIS during a 45-day public comment period.

ADDRESSES: Interested parties may direct comments, questions or requests for additional information to: Mr. Davon Collins, Environmental Counsel, United States Postal Service, 475 L'Enfant Plaza SW, Washington, DC 20260-6201, or at NEPA@usps.gov. Note that comments sent by mail may be subject to delay due to federal security screening.

SUPPLEMENTARY INFORMATION: This notice concerns the proposed purchase over 10 years of 50,000 to 165,000 new purpose-built delivery vehicles to replace the same number of existing delivery vehicles, and the intent of the U.S. Postal Service, pursuant to the requirements of the National Environmental Policy Act of 1969 (NEPA), its implementing procedures at 39 CFR 775, and the President's Council on Environmental Quality Regulations (40 CFR parts 1500-1508), to prepare an EIS to evaluate the environmental impacts of the proposed action versus a COTS vehicle alternative and a “no action” alternative. The EIS will consider the physical, biological, cultural, and socioeconomic environments. To assist in this process, the Postal Service is soliciting the public's input and comments.

Joshua J. Hofer,
Attorney, Ethics and Compliance.

[FR Doc. 2021-04457 Filed 3-3-21; 8:45 am]

BILLING CODE 7710-12-P